NUCLEAR REGULATORY COMMISSION

Development of U.S. Nuclear Regulatory Commission Safety Culture Policy Statement: Public Meeting

AGENCY: U.S. Nuclear Regulatory Commission (NRC).

ACTION: Notice of public meeting.

SUMMARY: The NRC plans to hold a public meeting on September 28, 2010, in its Las Vegas, Nevada hearing facility to solicit comments on the revision of its draft safety culture policy statement, including the revised definition and traits. The revision has been developed as a result of the NRC staff's evaluation of the public comments submitted in response to the draft policy statement (74 FR 57525, November 6, 2009; ML093030375), the results of the NRC's February 2010 workshop (February workshop) on safety culture, and additional comments that stakeholders and other interested parties have provided to the staff at the various outreach activities that have occurred since February. The draft policy statement focuses on the unique aspects of nuclear safety and security and highlights the Commission's expectations that the policy applies to individuals and organizations performing or overseeing NRC-regulated activities.

As part of the NRC staff's outreach activities which have focused on engaging a broad range of stakeholders including the Agreement States, the NRC held a 3-day Safety Culture Workshop in February 2010 at NRC headquarters in which participants were asked to reach alignment on (1) a common definition of safety culture and (2) high level descriptions or traits of areas important to safety culture. The February workshop also provided an additional venue for interested parties to provide comments on the draft policy statement that had been published in the Federal Register. Workshop panelists successfully aligned on a common definition of safety culture and developed a list of traits that they believe exist in a positive safety culture. Following the February workshop, the NRC staff participated in various industry forums in order to obtain additional input from stakeholders and other interested parties to confirm that the draft definition and traits developed at the February workshop reflect a broad consensus view.

In preparation for the February workshop, the NRC staff noted that some stakeholders and interested parties who reside in the Western half of the US were unable to attend the workshop or participate remotely. Thus, the NRC hearing facility in Las Vegas, Nevada, with its excellent broadcast capabilities was chosen as the site for the upcoming meeting. Additionally, the meeting will be simultaneously broadcast to a location at NRC headquarters in Rockville, Md., and webstreamed so that individuals may participate remotely from their own personal computers (PCs). Please check the following NRC Web sites for any updates to the workshop schedules and/or information regarding this event: http://www.nrc.gov/public-involve/public-meetings/index.cfm and/or http://www.nrc.gov/about-nrc/regulatory/enforcement/safety-culture.html.

The goal of the meeting is to provide an opportunity for stakeholders and other interested parties to offer their thoughts on the revised draft policy statement including the revised definition and traits. The revised draft policy statement has benefitted from public comments, the results of the February workshop, and additional comments that stakeholders and other interested parties have provided to the staff at the various outreach activities and will be used to focus much of the discussion at the September meeting. It will be published for a 30-day public comment period prior to the meeting on both the NRC's Safety Culture website at http://www.nrc.gov/about-nrc/regulatory/enforcement/safety-culture.html and in the Federal Register.

DATES: The meeting is planned for September 28, 2010. Additional information will be available on the NRC Public Meeting Schedule Web site at http://www.nrc.gov/public-involve/public-meetings/index.cfm at least ten days prior to the meeting.

Locations: The public meeting will be held at the NRC's hearing facility in Las Vegas, Nevada, and will be simultaneously broadcast to a location at NRC headquarters at 11555 Rockville Pike, Rockville, MD 20852. Additionally, the meeting will be webstreamed so that individuals may participate remotely from their own PCs. Regarding the NRC headquarters' location, because parking is extremely limited, the most convenient transportation to this location is via Metro's Red Line to the White Flint Station, which is directly across Marinelli Rd. from NRC headquarters. Please allow time at both locations to register with building security upon entering the buildings. The public meeting notice will provide specific details.

Document Accessibility: The documents referenced in this notice are publicly available. NRC's Public Document Room (PDR): The public may examine and have copied for a fee, publicly available documents at the NRC's PDR, Public File Area O-1 F21, One White Flint North, 11555 Rockville Pike, Rockville, Maryland 20852-2738.

NRC's Agencywide Documents Access and Management System (ADAMS): Publicly available documents created or received at the NRC after November 1, 1999, are available electronically at the NRC's Electronic Reading Room at http://www.nrc.gov/reading-rm/adams.html. From this site, the public can gain entry into ADAMS, which provides text and image files of NRC's public documents. If you do not have access to ADAMS or if there are problems in accessing the documents located in ADAMS, contact the PDR Reference staff at 1-800-397-4209, 301-415-4737 or by e-mail to pdr.resource@nrc.gov.

FOR FURTHER INFORMATION CONTACT: Jose Ibarra, telephone (301) 415-2581, or by email to Jose.Ibarra@nrc.gov, or Catherine Thompson, telephone (301) 415-3409, or by email to Catherine.Thompson@nrc.gov. Both of these individuals can also be contacted by mail at the U.S. Nuclear Regulatory Commission, Office of Enforcement, Concerns Resolution Branch, Mail Stop O-4 A15A, Washington, DC 20555-0001. Prior to the meeting, attendees are requested to register with one of the contacts listed in the meeting notice, so that sufficient accommodations can be made for their participation. Please let the contact know if special services are necessary, such as services for the hearing impaired, etc.

SUPPLEMENTARY INFORMATION:

1. Purpose of the Public Meeting

The NRC is working towards increasing the attention that is given to safety culture as part of its efforts to ensure the safe and secure possession and use of radioactive material within the NRC's jurisdiction. Additionally, the NRC has been working with the Agreement States to facilitate their consideration and support of this effort in their oversight programs for their materials licensees. The goal of this meeting is to provide an opportunity for stakeholders and other interested parties to offer their thoughts on the proposed revisions, including the revised definition and traits. The revised draft policy statement, definition and traits have benefitted from public comments, the results of the February workshop, and additional comments that have been provided to the staff at the various outreach activities.

2. Topics of Discussion

The NRC staff is planning to cover the following topics: (1) What is Safety Culture; (2) The NRC's Safety Culture Initiative; (3) The February Workshop; (4) Staff's Review of the Public Comments Received on the November 2009 Federal Register Notice; (5) Revisions to the Draft Policy Statement Including the Definition and Traits; (6) Update on INPO's Validation Study; and (7) Questions Regarding Next Steps.

3. Draft Agenda

The meeting is currently planned to begin at 8:30 a.m. and conclude at 4:15 p.m. The agenda will include introductory remarks briefly addressing the draft safety culture policy statement, the revised draft safety culture policy statement which will be published prior to the meeting including how the definition and traits have been revised, and the activities the NRC has engaged in to arrive at this point as well as what the next steps will be. This will be followed by sessions that address the topics provided in section 2 of this notice, in more depth.

Dated at Rockville, Maryland this 17th day of August, 2010.
For the Nuclear Regulatory Commission.
Roy P. Zimmerman,
Director, Office of Enforcement.

[FR Doc. 2010-20966 Filed 8-23-10; 8:45 am]

BILLING CODE 7590-01-P